DEPARTMENT OF TRANSPORTATION

Federal Railroad Administration

49 CFR Part 232

[Docket No. FRA-2004-17529; Notice No. 7]

RIN 2130-AB94

Adjustments to the Minimum and Maximum Civil Monetary Penalties for Violations of Federal Railroad Safety Laws or Federal Railroad Administration Safety Regulations; Correction

AGENCY: Federal Railroad Administration (FRA), Department of Transportation (DOT).

ACTION: Correcting amendment.

SUMMARY: On December 30, 2008, FRA published a final rule, pursuant to two statutes, which increased the minimum, ordinary maximum, and aggravated maximum civil monetary penalty it may apply when assessing a civil penalty for a violation of a railroad safety statute or regulation under its authority. (73 FR 79698). In preparing that final rule for publication, an error was made: FRA instructed that the numerical amount “$16,000” be removed from footnote 1 of appendix A to 49 CFR part 232 of the final rule and the numerical amount “$25,000” be added in its place. The instruction should have directed the removal of the numerical amount “$11,000” and the addition of “$25,000” in its place.

DATES: The correction to the final rule is effective on April 6, 2009.

FOR FURTHER INFORMATION CONTACT: Stephen N. Gordon, Trial Attorney, Office of Chief Counsel, FRA, 1200 New Jersey Avenue, SE., Mail Stop 10, Washington, DC 20590 (telephone 202-493-6001), stephen.n.gordon@dot.gov.

SUPPLEMENTARY INFORMATION: An error was included in the final rule published on December 30, 2008. (73 FR 79698). FRA failed to account for an October 16, 2008 amendment to footnote 1 in appendix A to part 232. The October 16, 2008 amendment inadvertently changed the total ordinary maximum civil penalty amount normally assessed per day for two or more violations within a single unit of equipment from “$16,000” to “$11,000”. (73 FR 61512).

As background, on September 6, 2007, FRA adjusted the ordinary maximum civil monetary penalty pursuant to the requirements of the Federal Civil Penalties Inflation Adjustment Act of 1990. (72 FR 51194). As part of this inflation adjustment to the ordinary maximum civil monetary penalty, FRA amended footnote 1 to appendix A in part 232 by increasing the ordinary maximum civil monetary penalty to “$16,000”. As a result, footnote 1 read, in pertinent part, “[g]enerally, when two or more violations of these regulations are discovered with respect to a single unit of equipment that is placed or continued in service by a railroad, the appropriate penalties set forth above are aggregated up to a maximum of $16,000 per day.” (72 FR 51197).

The October 16, 2008 amendment was part of a broader change in part 232 that was not focused on changing the inflation adjustment to the ordinary maximum civil monetary penalty for violations within that part. The October 16, 2008 amendment instituted FRA's new regulations for electronically controlled pneumatic (ECP) brake systems. In the process of promulgating the new ECP brake systems rules, FRA unintentionally removed the correct numerical amount “$16,000” and re-inserted the superseded numerical amount “$11,000” in its place. (73 FR 61556-57).

FRA's December 30, 2008 adjustment of the ordinary maximum civil monetary penalty directed that the numerical amount “$16,000”, which was no longer included in the text of footnote 1, be removed and replaced by the numerical amount “$25,000”. The final rule published on December 30, 2008 should have instructed that the numerical amount “$11,000” be removed and the numerical amount “$25,000” be added in its place. FRA is correcting this minor error so that the final rule clearly conforms to FRA's intent.

List of Subjects in 49 CFR Part 232

Penalties, Railroad safety, Reporting and recordkeeping requirements.

The Final Rule

In accordance with the foregoing, 49 CFR part 232, chapter II, subtitle B of title 49, Code of Federal Regulations is corrected by making the following correcting amendment:

PART 232—[AMENDED]

1. The authority citation for part 232 continues to read as follows:

Authority: 49 U.S.C. 20102-20103, 20107, 20133, 20141, 20301-20303, 20306, 21301-21302, 21304; 28 U.S.C. 2461, note; and 49 CFR 1.49.

Appendix A to Part 232—[AMENDED]

2. Footnote 1 to appendix A of part 232 is amended by removing the numerical amount “$11,000” and adding in its place the numerical amount “$25,000”.

Issued in Washington, DC, on March 19, 2009.
Jo Strang,
Acting Deputy Administrator, Federal Railroad Administration.

[FR Doc. E9-7566 Filed 4-3-09; 8:45 am]

BILLING CODE 4910-06-P